DEPARTMENT OF THE INTERIOR

Bureau of Land Management

[NV-055-5870-EU]

Notice of Realty Actions: Competitive Sale of Public Lands in Clark County, NV; Termination of Segregation and Classification of Two Parcels Designated for Recreation and Public Purposes

AGENCY: Bureau of Land Management, Interior.

ACTION: Notice.

SUMMARY: The Bureau of Land Management (BLM) proposes to sell 72 parcels of federally owned land in Laughlin, Nevada, aggregating approximately 2,058.19 acres. All sales will be conducted in Laughlin on June 15, 2005, in accordance with competitive bidding procedures. The BLM also is terminating the Recreation and Public Purposes classifications of two parcels of land in Clark County, Nevada, that will be offered for sale on June 15, 2005.

DATES: Comments regarding the proposed sale must be received by BLM on or before May 16, 2005.

Sealed bids must be received by the BLM not later than 4:30 p.m., PDT, June 10, 2005.

All parcels of land proposed for sale are to be put up for purchase and sale, at public auction, beginning at 10 a.m., PDT, June 15, 2005. Registration for oral bidding will begin at 8 a.m., PDT, June 15, 2005. The public auction will begin at 10 a.m., PDT, June 15, 2005.

Other deadline dates for the receipt of payments, and arranging for certain payments to be made by electronic transfer, are specified in the proposed terms and conditions of sale, as stated herein.

ADDRESSES: Comments regarding the proposed sale, as well as sealed bids to be submitted to BLM, should be addressed to: Field Manager, Las Vegas Field Office, Bureau of Land Management, 4701 N. Torrey Pines Drive, Las Vegas, Nevada 89130.

More detailed information regarding the proposed sale and the lands involved may be reviewed during normal business hours (7:30 a.m. to 4:30 p.m.) at the Las Vegas Field Office (LVFO).

The address for oral bidding registration, and for where the public auction will be held is: Laughlin Junior/Senior High School, 1900 Cougar Drive, Laughlin, Nevada 89028.

The auction will take place in the Auditorium at the Laughlin Junior/Senior High School.

FOR FURTHER INFORMATION CONTACT: You may contact Judy Fry, Program Lead, SALES at (702) 515-5081 or by e-mail at jfry@nv.blm.gov. You may also call (702) 515-5000 and ask to have your call directed to a member of the Sales Team.

SUPPLEMENTARY INFORMATION: The following lands have been authorized and designated for disposal in the Las Vegas Field Office Resource Management Plan (RMP), dated October 5, 1998 and, therefore, meet the disposal qualification of section 205 of the Federal Land Transaction Facilitation Act of July 25, 2000 (43 U.S.C. 2304) (hereinafter FLTFA). These lands are proposed to be put up for purchase and sale by competitive auction on June 15, 2005, at an oral auction to be held in accordance with Section 205 of FLTFA, the applicable provisions of Sections 203 and Section 209 of the Federal Land Policy and Management Act of 1976 (FLPMA) (43 U.S.C. 1713 and 1719), respectively, and the implementing FLPMA regulations, 43 CFR part 2710 and part 2720, at not less than the fair market value (FMV) of each parcel, as determined by the authorized officer after appraisal. The proceeds from the sale of the lands will be deposited into the Federal Land Disposal Account, pursuant to FLTFA.

Lands Proposed for Sale

Mount Diablo Meridian, Nevada,

Mount Diablo Meridian,

T. 32 S., R. 66 E.,

Sec. 08, Lots 2-5, 7-12, 14-18, 20-22, 24-29, 31-33.

Sec. 09, N½NE¼, SW¼NE¼, E½SE¼NE¼, N½NW¼SE¼NE¼, NE¼NW¼, S½NW¼, SW¼, NE¼NE¼SE¼, S½NE¼SE¼, W½NW¼SE¼, S½SE¼.

Sec. 15, N½NE¼NE¼NW¼, S½NE¼NE¼NW¼, NE¼NW¼NE¼NW¼, NW¼NW¼NE¼NW¼, SW¼NW¼NE¼NW¼, SE¼NW¼NE¼NW¼, NE¼SW¼NE¼NW¼, NW¼SW¼NE¼NW¼, SW¼SW¼NE¼NW¼, SE¼SW¼NE¼NW¼, N½SE¼NE¼NW¼, S½SE¼NE¼NW¼, E½NE¼NE¼NW¼NW¼, W½NE¼NE¼NW¼NW¼, E½NW¼NE¼NW¼NW¼, W½NW¼NE¼NW¼NW¼, W½SW¼NE¼NW¼NW¼, E½SW¼NE¼NW¼NW¼, W½SE¼NE¼NW¼NW¼, E½SE¼NE¼NW¼NW¼, E½NE¼NW¼NW¼NW¼, W½NE¼NW¼NW¼NW¼, E½NW¼NW¼NW¼NW¼, W½NW¼NW¼NW¼NW¼, W½SW¼NW¼NW¼NW¼, E½SW¼NW¼NW¼NW¼, W½SE¼NW¼NW¼NW¼, E½SE¼NW¼NW¼NW¼, E½NE¼SW¼NW¼NW¼, W½NE¼SW¼NW¼NW¼, E½NW¼SW¼NW¼NW¼, W½NW¼SW¼NW¼NW¼, W½SW¼SW¼NW¼NW¼, E½SW¼SW¼NW¼NW¼, W½SE¼SW¼NW¼NW¼, E½SE¼SW¼NW¼NW¼, E½NE¼SE¼NW¼NW¼, W½NE¼SE¼NW¼NW¼, E½NW¼SE¼NW¼NW¼, W½NW¼SE¼NW¼NW¼, W½SW¼SE¼NW¼NW¼, E½SW¼SE¼NW¼NW¼, W½SE¼SE¼NW¼NW¼, E½SE¼SE¼NW¼NW¼, N½SW¼, N½SW¼SW¼, W½SW¼SW¼SW¼, SE¼SW¼SW¼, W½SE¼SW¼, E½SE¼SW¼.

Sec. 16, NE¼, W½SW¼NW¼, SE¼SW¼NW¼, NE¼SE¼NW¼, S½SE¼NW¼, N½NE¼SW¼, N½SW¼NE¼SW¼, SE¼NE¼SW¼, N½NW¼SW¼, N½SW¼NW¼SW¼, N½SE¼NW¼SW¼, S½NE¼SW¼SW¼, SE¼SW¼SW¼, NE¼SE¼SW¼, S½SE¼SW¼, SW¼SE¼, W½SE¼SE¼, E½SE¼SE¼.

Sec. 17, Lots 1-4, 6-22, 25-30, 32, 34-36.

Consisting of 72 Parcels Containing 2,058.19 Acres, More or Less

If a parcel of land is sold, the locatable mineral interests therein will be sold simultaneously as part of the sale. The lands identified for sale have no known locatable mineral value. An offer to purchase any parcel at auction will constitute an application for conveyance of the locatable mineral interests. In conjunction with the final payment, the applicant will be required to pay a $50.00 non-refundable filing fee for processing the conveyance of the locatable mineral interests.

Terms and Conditions of Sale

The terms and conditions applicable to this sale are as follows: All parcels are subject to the following:

1. All discretionary leaseable and saleable mineral deposits are reserved to the United States on the lands in Clark County; but, permittees, licensees, and lessees retain the right to prospect for, mine, and remove such minerals owned by the United States under applicable law and any regulations that the Secretary of the Interior may prescribe, including all necessary access and exit rights.

2. A right-of-way is reserved for ditches and canals constructed by authority of the United States under the Act of August 30, 1890 (43 U.S.C. 945).

3. All parcels are subject to valid existing rights. Parcels may also be subject to applications received prior to publication of this Notice if processing the application would have no adverse affect on the marketability of title, or the federally approved Fair Market Value (FMV), of a parcel. Encumbrances of record, appearing in the BLM public files for the parcels proposed for sale, are available for review during business hours, 7:30 a.m. PDT to 4:30 p.m. PDT, Monday through Friday, at the BLM LVFO.

4. All parcels are subject to reservations for roads, public utilities and flood control purposes, both existing and proposed, in accordance with laws and local governing entities' transportation plans.

5. No warranty of any kind, express or implied, is given by the United States as to the title, physical condition or potential uses of the parcels of land proposed for sale; and the conveyance of any such parcel will not be on a contingency basis. However, to the extent required by law, all such parcels are subject to the requirements of section 120(h) of the Comprehensive Environmental Response Compensation and Liability Act, as amended (CERCLA) (42 U.S.C. 9620(h)).

6. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of federal, state, and local laws and regulations that are now or may in the future become, applicable to the real property; (2) Judgments, claims or demands of any kind assessed against the United States; (3) Costs, expenses, or damages of any kind incurred by the United States; (4) Releases or threatened releases of solid or hazardous waste(s) and/or hazardous substances(s), as defined by federal or state environmental laws, off, on, into or under land, property and other interests of the United States; (5) Activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with each of the parcels of land patented or otherwise conveyed by the United States, and may be enforced by the United States in a court of competent jurisdiction.

7. Maps delineating the individual proposed sale parcels are available for public review at the BLM LVFO and at the office of the Laughlin Town Manager located at the Laughlin Regional Government Center, 101 Civic Way, Laughlin, Nevada 89029. Current appraisals for each parcel are expected to be available for public review at the LVFO on or about March 31, 2005.

8. (a) Sealed bids may be presented for all parcels. Sealed bids must be received at the BLM LVFO, no later than 12 p.m., PDT, Friday, June 10, 2005. Sealed bid envelopes must be marked on the lower front left corner with the BLM Serial Number for the parcel and the sale date. Bids must be for not less than the federally approved FMV and a separate bid must be submitted for each parcel.

8. (b) Each sealed bid shall be accompanied by a certified check, money order, bank draft, or cashier's check made payable in U.S. dollars to the order of the Bureau of Land Management, for not less than 10 percent or more than 30 percent of the amount bid. The highest qualified sealed bid for each parcel will become the starting bid at the oral auction. If no sealed bids are received, oral bidding will begin at the FMV, as determined by the authorized officer.

9. All parcels will be put up for competitive sale by oral auction beginning at 10 a.m., PDT, June 15, 2005, in the Auditorium of the Laughlin Junior/Senior High School located at 1900 Cougar Drive, Laughlin, Nevada. Interested parties who will not be bidding are not required to register and may proceed directly to the Auditorium.

10. All oral bidders are required to register. Registration for oral bidding will begin at 8 a.m. PDT on the day of the sale and will end at 10 a.m. PDT. You are encouraged to pre-register by mail or fax by completing the form located in the sale book. The form is also available at the Laughlin Regional Government Center, the BLM LVFO, and on the Internet at http://www.nv.blm.gov/snplma. Pre-registration will end at 12 p.m. PDT, on June 3, 2005.

11. (a) Prior to receiving a bidder number on the day of the sale, all registered bidders must submit a certified check, bank draft, or cashier's check in the amount of $10,000. The certified check bank draft, or cashier's check must be made payable in U.S. dollars to the Bureau of Land Management. On the day of the sale, pre-registered bidders may go to the Express Registration Desk, present their Photo Identification, the required $10,000 check, and receive a bidder number. All other bidders must go to the standard Registration Line where additional information will be requested along with your Photo Identification and the required $10,000 check. Upon completion of registration you will be given a bidder number. If you are a successful bidder, the $10,000 will be applied to your required 20% deposit. Following the auction, checks will be returned to the unsuccessful bidders upon presentation of Photo Identification and return of their bidder number at the designated location.

11. (b) If as a result of a sealed bid you presented to BLM prior to the auction, you were not declared a high-bidder, your check will be returned to you at the auction upon proof of identification. If you do not attend the auction, your check will be returned according to your instructions.

12. If you purchase one or more parcels and default on any single parcel, the default will be against all of your parcels. BLM will retain your $10,000 and the sale of all parcels to you will be cancelled.

13. The highest qualifying bid for any parcel, whether sealed or oral, will be declared the high bid. The apparent high bidder, if an oral bidder, must submit the full deposit amount by 2 p.m. PDT on the day of the sale in the form of cash, personal check, bank draft, cashiers check, money order or any combination thereof, made payable in U.S. dollars to the Bureau of Land Management, for not less than 20 percent of the amount of the successful bid. Payment must be made at the auction site at the Laughlin Junior/Senior High School.

14. The remainder of the full bid price, whether sealed or oral, must be paid within 180 calendar days of the competitive sale date in the form of a certified check, money order, bank draft, or cashier's check made payable in U.S. dollars to the Bureau of Land Management. Personal checks will not be accepted. Arrangements for Electronic Fund Transfer (EFT) to BLM for the balance which is due on or before December 12, 2005, must be made a minimum of two weeks prior to the date you wish to make payment. Failure to pay the full price within the 180 days will disqualify the apparent high bidder and cause the entire bid deposit to be forfeited to the BLM.

15. Oral bids will be considered only if received at the place of sale and made at least for the FMV as determined by the authorized officer.

16. The BLM may reject any or all offers, or withdraw any parcel of land or interest therein from sale, if, in the opinion of the authorized officer, consummation of the sale would not be fully consistent with FLPMA or other applicable laws or are determined to be not in the public interest.

If not sold, any parcel described above in this Notice may be identified for sale at a later date without further legal notice. Parcels for which no bids are received, may be put up for sale in a future online auction on the Internet. Internet auction procedures will be available at http://www.auctionrp.com. If unsold on the Internet, parcels may be put up for sale at future auctions without additional legal notice. Land use applications may be considered after completion of the sale for parcels that are not sold through sealed, oral, or online Internet auction procedures provided the authorization will not adversely affect the marketability or value of the parcel.

Federal law requires bidders to be U.S. citizens 18 years of age or older; a corporation subject to the laws of any State or of the United States; a State, State Instrumentality, or political subdivision authorized to acquire and own real property; or an entity including, but not limited to, associations or partnerships capable of acquiring and owning real property, or interests therein, under the laws of the State of Nevada. Certification of bidder qualification must accompany the bid deposit.

In order to determine the value, through appraisal, of the parcels of land proposed to be sold, certain extraordinary assumptions may have been made of the attributes and limitations of the lands and potential effects of local regulations and policies on potential future land uses. Through publication of this NORA, the Bureau of Land Management gives notice that these assumptions may not be endorsed or approved by units of local government. It is the buyer's responsibility to be aware of all applicable State and local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

The Environmental Assessment, EA NUMBER 2004-475, Laughlin Land Sale, and Record of Decision, detailed information concerning the sale, including the encumbrances, reservations, sale procedures and conditions, and CERCLA is available for review at the BLM LVFO, or by calling (702) 515-5114. This information will also be available on the Internet at http://propertydisposal.gsa.gov. Click on NV for Nevada. It will also be available on the Internet at http://www.nv.blm.gov/snplma. Click on Federal Land Transaction Facilitation Act, then Land Sales, then Upcoming Sales. Scroll down the page and select Laughlin.

Termination of Classification and Segregations

Additionally, the following leases granted under the Recreation and Public Purposes (R&PP) Act, 43 U.S.C. 869 et. seq.) have been relinquished: N-50031 (54 FR 23712) and N-50912 (54 FR 23711). This Notice officially terminates the R&PP classifications and segregations. Exchange file N-74701, 48 U.S.C. 1716, was closed without action on 2/12/03 and this Notice officially terminates that Exchange Segregation. Lands described in this Notice were also previously segregated under Exchange file N-61698 and this Notice officially terminates that Exchange Segregation of the described lands. The above terminations, however, do not, operate, or serve as opening orders.

Segregation

The publication of this Notice in the Federal Register shall segregate the public lands covered by this Notice to the extent that they will not be subject to appropriation under the public land laws, including the mining laws. Any subsequent application, shall not be accepted, shall not be considered as filed and shall be returned to the applicant, if the Notice segregates the lands from the use applied for in the application. The segregative effect of this Notice shall terminate upon issuance of patent or other document of conveyance to such lands, upon publication in Federal Register of a termination of the segregation or 270 days from the date of publication, whichever occurs first.

Public Comments

The general public and interested parties may submit, in letter format, comments regarding the proposed sale and purchase to the Field Manager, BLM LVFO, up to 45 days after publication of this Notice in the Federal Register. Facsimiles, e-mails and telephone calls are unacceptable means for the transmission of comments. Any adverse comments will be reviewed by the Nevada, BLM State Director, or other authorized official, who may sustain, vacate, or modify this realty action in whole or in part. In the absence of any adverse comments, this realty action will become the final determination of the Department of the Interior. Any comments received during this process, as well as the commentor's name and address, will be available to the public in the administrative record and/or pursuant to a Freedom of Information Act request. You may indicate for the record that you do not wish to have your name and/or address made available to the public. Any determination by the Bureau of Land Management to release or withhold the names and/or addresses of those who comment will be made on a case-by-case basis. A request from a commentor to have their name and/or address withheld from public release will be honored to the extent permissible by law.

Dated: March 11, 2005.
Juan Palma,
Field Manager.

[FR Doc. 05-6270 Filed 3-29-05; 8:45 am]

BILLING CODE 4310-HC-P